DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology, Commerce.

Title: Proposed Information Collection; Comment Request; Organization of Scientific Area Committees (OSAC) Membership Application.

OMB Control Number: 0639-0070.

Form Number(s): None.

Type of Request: Regular.

Number of Respondents: 1,000 per year.

Average Hours per Response: 0.50 hour.

Burden Hours: 500 per year.

Needs and Uses: The information requested will allow NIST along with the Department of Justice (DOJ) to fill new positions created within the Organization of Scientific Area Committees (OSAC) and to replace positions vacated by resignation or rotation of more than 600 current members to enable a coordinated U.S. approach to Standards for the Forensic Science Disciplines to include broad participation from Forensic Science Practitioners, Researchers, Metrologists, Accreditation Bodies, Defense, and Prosecution.

Affected Public: Individuals.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb .eop.gov or fax to (202) 395-5806.

Dated: November 20, 2014.
Glenna Mickelson,
Management Analyst, Office of the Chief Information Officer.

[FR Doc. 2014-27925 Filed 11-25-14; 8:45 am]

BILLING CODE 3510-13-P